DEPARTMENT OF THE INTERIOR

Bureau of Land Management

[LLCAC06900 L17110000.AL0000 LXSS025B0000]

Call for Nominations for the Bureau of Land Management's Carrizo Plain National Monument Advisory Committee, CA

AGENCY: Bureau of Land Management, Interior.

ACTION: Call for nominations.

SUMMARY: The Bureau of Land Management (BLM) is soliciting nominations from the public to fill positions on the Carrizo Plain National Monument Advisory Committee (MAC). MAC members provide advice and recommendations to the BLM on the management of public lands in the Carrizo Plain National Monument.

ADDRESSES: Nominations should be sent to the Monument Manager, Bureau of Land Management, Bakersfield Field Office, 3801 Pegasus Drive, Bakersfield, CA 93308.

FOR FURTHER INFORMATION CONTACT: Johna Hurl, Monument Manager, Bakersfield Field Office, 3801 Pegasus Drive, Bakersfield, CA 93308, 661-391-6093, jhurl@blm.gov or John Kelley, Carrizo Program Support Technician, at 661-391-6088, jtkelley@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The MAC provides representative citizen counsel and advice to the Secretary of the Interior through the BLM with respect to the revision and implementation of the comprehensive plan for the Carrizo Plain National Monument.

The MAC consists of 10 members:

(1) A member of, or nominated by, the San Luis Obispo County Board of Supervisors;

(2) A member of, or nominated by, the Kern County Board of Supervisors;

(3) A member of, or nominated by, the Carrizo Native American Advisory Council;

(4) A member of, or nominated by, the Central California Resource Advisory Council;

(5) A member representing individuals or companies authorized to graze livestock within the Monument; and

(6) Five members with recognized backgrounds reflecting:

(a) The purposes for which the Monument was established; and

(b) The interests of other stakeholders, including the general public, who are affected by or interested in the planning and management of the Monument.

Terms of three present MAC members (two public-at-large and one San Luis Obispo County Board of Supervisors) expire on November 15, 2013. Individuals may nominate themselves or others. Nominees must be residents of the counties or neighboring county in which the MAC has jurisdiction. The BLM will evaluate nominees based on their education, training, and experience and their knowledge of the geographical resource. The following must accompany nominations received in this call for nominations:

• Letters of reference from represented interests or organizations;

• A completed background information nomination form; and

• Any other information that speaks to the nominee's qualifications.

Nominations will be accepted for a 45-day period beginning the date this notice is published.

Authority: 43 CFR 1784.4-1.

Gabriel Garcia,
Field Manager, Bakersfield Field Office.

[FR Doc. 2013-25788 Filed 10-29-13; 8:45 am]

BILLING CODE 4310-40-P